FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than July 17, 2024.

A. Federal Reserve Bank of San Francisco (Joseph Cuenco, Assistant Vice President, Formations & Transactions) 101 Market Street, San Francisco, California 94105-1579. Comments can also be sent electronically to sf.fisc.comments.applications@sf.frb.org:

1. Beech Tree Partners, LP, Newel George Daines, as manager, both of Providence, Utah; Appian Investments, LLC, Foxboro, Massachusetts; Gabrielle D. Gay, as manager, West Palm Beach, Florida; Linda S. Daines, New York, New York, individually and as manager of RFD51, LLC, and WKA19, LLC, both of Salt Lake City, Utah; Armani57, LLC, Peter C. Daines, as manager, and Ginger60, LLC, Holly Daines, as manager, all of Logan, Utah; as a group acting in concert, to retain voting shares of Cache Valley Banking Company, and thereby indirectly retain voting shares of Cache Valley Bank, both of Logan, Utah, and Liberty Bank, Inc., Salt Lake City, Utah.

Board of Governors of the Federal Reserve System.
Michele Taylor Fennell,
Deputy Associate Secretary of the Board.

[FR Doc. 2024-14574 Filed 7-1-24; 8:45 am]

BILLING CODE 6210-01-P